OFFICE OF THE UNITED STATES TRADE REPRESENTATIVE

Notice of Meeting of the Industry Sector Advisory Committee on Small and Minority Business (ISAC-14)

AGENCY: Office of the United States Trade Representative.

ACTION: Notice of Meeting.

SUMMARY: The Industry Sector Advisory Committee on Small and Minority Business (ISAC-14) will hold a meeting on March 19, 2001, from 9:15 a.m. to 3:00 p.m. The meeting will be opened to the public from 9:00 a.m. to 3:00 p.m.

DATES: The meeting is scheduled for March 19, 2001, unless otherwise notified.

ADDRESSES: The meeting will be held at the Department of Commerce, Conference Room 3407, located at 14th Street between Pennsylvania and Constitution Avenues, NW., Washington, DC.

FOR FURTHER INFORMATION CONTACT: Millie Sjoberg or Pam Wilbur (202) 482-4792 Department of Commerce, 14th Street and Constitution Avenue, NW., Washington, DC 20230 (principal contact), or myself on (202) 395-6120.

SUPPLEMENTARY INFORMATION: During the opened portion of the meeting the following topics will be covered:

• Discussion with USTR on SME trade policy issues;

• Discussion on Dispute Resolution;

• Discussion on trade with Africa; and

• Committee business.

Christina Sevilla,
Acting Assistant United States Trade Representative for Intergovernmental Affairs and Public Liaison.

[FR Doc. 01-5757 Filed 3-7-01; 8:45 am]

BILLING CODE 3190-01-M